DEPARTMENT OF DEFENSE

Office of the Secretary

Renewal of Federal Advisory Committee

AGENCY: Department of Defense (DoD).

ACTION: Notice.

SUMMARY: Under the provisions of the Federal Advisory Committee Act of 1972, (5 U.S.C. Appendix, as amended), the Sunshine in the Government Act of 1976 (5 U.S.C. 552b, as amended), and 41 CFR 102-3.365, the Department of Defense gives notice that it will renew the charter for the Defense Task Force on Sexual Assault in the Military Services on September 22, 2007.

The Task Force, under the provisions of the Federal Advisory Committee Act of 1972 (5 U.S.C. Appendix, as amended), and in accordance with section 576 of Public Law 108-375, shall conduct an examination of matters relating to sexual assault by members or against members of the Armed Forces of the United States.

Pursuant to section 576(e) of Public Law 108-375, the Task Force, no later than one year after the initiation of its examination, shall submit to the Secretary of Defense and the Secretaries of the Army, Navy and Air Force on the activities of the Task Force and on the activities of the Department of Defense and the Armed Forces to respond to sexual assault.

Within 90 days after receipt of the Task Force's report, the Secretary of Defense shall submit the Task Force's report, together with the Secretary of Defense's evaluation of the report, to the Committees on Armed Services of the Senate and House of Representatives.

The Task Force shall be comprised of no more than fourteen members, and the membership shall be comprised of an equal number of military and civilian members. The Secretary of Defense shall select the military Co-Chairperson, and the civilian members shall select a civilian Co-Chairperson.

Task Force members appointed by the Secretary of Defense, who are not full-time Federal officers or employees, shall serve as Special Government Employees, and all members shall be appointed on an annual basis for the duration of the Task Force.

Task Force members who are Federal officers or employees shall serve without compensation (other than compensation to which they are entitled to as a Federal officer or employee). Other Task Force members shall be appointed under the authority of 5 U.S.C. 3161, and will receive compensation for their service. All Task Force members shall receive compensation for travel and per diem for official Task Force travel.

The Defense Task Force on Sexual Assault in the Military Services shall meet at the call of the committee's Designated Federal Officer, in consultation with the Co-Chairpersons. The Designated Federal Officer shall be a full-time or permanent part-time DoD employee, and shall be appointed in accordance with established DoD policies and procedures. The Designated Federal Officer or duly appointed Alternate Designated Federal Officer shall attend all committee meetings and subcommittee meetings.

The Task Force shall be authorized to establish subcommittees, as necessary and consistent with its mission, and these subcommittees or working groups shall operate under the provisions of the Federal Advisory Committee Act of 1972, the Sunshine in the Government Act of 1976 (5 U.S.C. 552b, as amended), and other appropriate Federal regulations.

Such subcommittees or workgroups shall not work independently of the chartered Task Force, and shall report all their recommendations and advice to the Task Force for full deliberation and discussion. Subcommittees or workgroups have no authority to make decisions on behalf of the chartered Task Force nor can they report directly to the Department of Defense or any Federal officers or employees who are not Task Force members.

Pursuant to 41 CFR 102-3.105(j) and 102-3.140, the public or interested organizations may submit written statements to the Defense Task Force on Sexual Assault in the Military Services membership about the committee's mission and functions. Written statements may be submitted at any time or in response to the stated agenda of planned meeting of the Defense Task Force on Sexual Assault in the Military Services.

All written statements shall be submitted to the Designated Federal Officer for the Defense Task Force on Sexual Assault in the Military Services, and this individual will ensure that the written statements are provided to the membership for their consideration. Contact information for the Designated Federal Officer can be obtained from the GSA's FACA Database— https://www.fido.gov/facadatabase/public.asp.

The Designated Federal Officer, pursuant to 41 CFR 102-3.150, will announce planned meetings of the Defense Task Force on Sexual Assault in the Military Services. The Designated Federal Officer, at that time, may provide additional guidance on the submission of written statements that are in response to the stated agenda for the planned meeting in question.

FOR FURTHER INFORMATION CONTACT: Jim Freeman, DoD Committee Management Office, 703-601-2554, extension 128.

Dated: July 30, 2007.
L.M. Bynum,
Alternate OSD Federal Register, Liaison Officer, Department of Defense.

[FR Doc. 07-3822 Filed 8-1-07; 10:23 am]

BILLING CODE 5001-06-M